DEPARTMENT OF AGRICULTURE

Agricultural Marketing Service

[TM-02'06]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: October 19, 2002, 8 a.m. to 6:30 p.m.; and October 20, 2002, 8 a.m. to 6 p.m. Requests from individuals and organizations wishing to make an oral presentation at the meeting are due by the close of business on October 9, 2002.

ADDRESSES: The meeting will take place at the Radisson Barceló Hotel, Board Room, 2121 P Street, NW., Washington, DC. Requests to make an oral presentation at the meeting may be sent to Ms. Katherine Benham at USDA-AMS-TMD-NOP, 1400 Independence Avenue, SW., Room 4008-So., Ag Stop 0268, Washington, DC 20250-0200. Requests to make an oral presentation at the meeting may also be sent electronically to Ms. Katherine Benham at katherine.benham@usda.gov, via telephone at (202) 205-7806, or via facsimile at (202) 205-7808.

The October NOSB meeting agenda is available at http://www.ams.usda.gov/nop or from Ms. Katherine Benham at (202) 205-7806, preceding addresses or via telephone (202) 205-7806.

FOR FURTHER INFORMATION CONTACT: Richard Mathews, Program Manager, National Organic Program, (202) 720-3252.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production and to advise the Secretary on other aspects of the implementation of the OFPA. The NOSB met for the first time in Washington, DC, in March 1992, and currently has six committees working on various aspects of the organic program. The committees are: Accreditation, Crops, Livestock, Materials, International, and Processing.

In August of 1994, the NOSB provided its initial recommendations for the National Organic Program (NOP) to the Secretary of Agriculture. Since that time, the NOSB has submitted 42 addenda to its recommendations and reviewed more than 241 substances for inclusion on the National List of Allowed and Prohibited Substances. The last meeting of the NOSB was held on September 17-19, 2002, in Washington, DC.

The Department of Agriculture (USDA) published its final National Organic Program regulation in the Federal Register on December 21, 2000 (65 FR 80548). The rule became effective April 21, 2001.

The principal purposes of the meeting are to provide an opportunity for the NOSB to: Receive an update from the USDA/NOP, receive various committee reports, receive reports from the Materials Task Force and Composting Task Force, and review materials to determine if they should be included on the National List of Allowed and Prohibited Substances.

The Materials Committee will report on current petitions' statuses, and report on EPA List 3 and 4 Inerts. The Materials Committee will also present for NOSB consideration 10 materials for possible inclusion on the National List of Allowed and Prohibited Substances. The Livestock Committee will present for NOSB consideration its recommendations on “dairy herd replacements”, and the scope of review for excipients and other materials. The Processing Committee will discuss the ion exchange production process, present a recommendation for the scope of materials review, and present a recommendation for when handling becomes processing for producers and retailers. The Crops Committee will present its recommendations for hydroponic production, planting stock, and application of the 20% sodium nitrate annotation. The Accreditation Committee will report on the review of NOP accreditation procedures and present its recommendation for grower group certification criteria. Finally, the International Committee will discuss and present its recommendation on US/EU equivalency.

Materials to be reviewed at the meeting by the NOSB are as follows:

Crop Production: Potassium Silicate, Potassium Sulfate, 1,4 Dimethylnaphthalene, and Butylated Hydroxytoluene (BHT); and for Livestock Production: Mineral Oil, Calcium Propionate, Furosemide, Atropine, Flunixin, and Proteinated Chelates.

For further information, see http://www.ams.usda.gov/nop. Copies of the NOSB meeting agenda can be requested from Ms. Katherine Benham by telephone at (202) 205-7806; or obtained by accessing the NOP Web site at http://www.ams.usda.gov/nop.

The meeting is open to the public. The NOSB has scheduled time for public input on Saturday, October 19, 2002, from 8:15 a.m. until 10:15 a.m., and Sunday, October 20, 2002, from 8 a.m. until 9 a.m., at the Radisson Barceló Hotel, 2121 P Street, NW., Washington, DC. Individuals and organizations wishing to make an oral presentation at the meeting may make their requests via letter, telephone, e-mail or facsimile as set forth in the addresses section of this notice. While persons wishing to make a presentation, may also sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments must be submitted to Ms. Benham, prior to or after the meeting, at USDA-AMS-TMD-NOP, 1400 Independence Avenue, SW., Room 4008-So., Ag Stop 0268, Washington, DC 20250-0200. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from this meeting.

Dated: October 3, 2002.
A.J. Yates,
Administrator, Agricultural Marketing Service.

[FR Doc. 02-25678 Filed 10-8-02; 8:45 am]

BILLING CODE 3410-02-P